LEGAL SERVICES CORPORATION

Sunshine Act Meeting of the Board of Directors

Amended Notice

Changes to the Agenda and Reconvening of Meeting

Notice: The Legal Services Corporation (LSC) is announcing amendments to the notice of the September 18, 2006 meeting of the Board of Directors (Board). This meeting was announced in the Federal Register dated September 12, 2006, Volume 71, Number 176. The amendment is being made to reflect a change to the meeting Agenda. Notice is also being given of the reconvening of the Board's meeting.

Reconvening of Meeting

There being insufficient time for the Board to conclude its business on September 18, 2006, the Board voted to recess the meeting and reconvene on Friday, September 22, 2006, at which time it will meet telephonically until its business is concluded.

Times and Date(s): At 9 a.m., on Friday, September 22, 2006, the Legal Services Corporation Board of Directors will reconvene the meeting recessed on September 18, 2006. The meeting will be by telephone. Members of the public wishing to attend the meeting in person may do so by coming to the Corporation's 3rd floor Conference Center at the address given below. The call-in information for members of the public wishing to participate in the meeting by telephone follows.

Toll-free number: 1-888-323-2717.

Call Leader: Patricia Batie.

Pass Code: Victor Fortuno.

Location: The Legal Services Corporation, 3rd Floor Conference Center, 3333 K Street, NW., Washington, DC.

Status of Meetings: Open, except as noted below.

• Status: Board of Directors Meeting—Open, except that a portion of the meeting of the Board of Directors may be closed to the public pursuant to a vote of the Board of Directors. At the closed session, the Board will receive briefings ¹ from the Inspector General on the investigation requested by Congressmen Enzi, Grassley and Cannon, and a separate briefing from LSC management on the same matter. The closing will be authorized by the relevant provisions of the Government in the Sunshine Act [5 U.S.C. 552b(c)(9)(b)] and the Legal Services Corporation's corresponding regulation, 45 CFR 1622.5(g).

¹

Any portion of the closed session consisting solely of staff briefings does not fall within the Sunshine Act's definition of the term “meeting” and, therefore, the requirements of the Sunshine Act do not apply to such portion of the closed session. 5 U.S.C. 552(b)(a)(2) and (b). See also 45 CFR 1622.2 & 1622.3

Amended Agenda

During the September 18, 2006 meeting of the Board of Directors, the agenda was amended as indicated below. Changes appear in italicized, bold print.

Open Session

1. Approval of agenda.

2. Approval of minutes of the Board's meeting of July 29, 2006.

3. Approval of minutes of the Executive Session of the Board's meeting of July 29, 2006.

4. Consider and act on Staff report on document requests dated April 12, 2006, June 19, 2006 and August 8, 2006 that were received from Congress and LSC's responses thereto.

5. Consider and act on Staff report on the CBS News story of August 13, 2006 and the Associated Press story of August 14, 2006 and LSC's response(s) thereto.

6. Chairman's report.

7. Consider and act on report of the Board's Finance Committee.

8. Consider and act on other business.

9. Consider and act on whether to authorize the Chairman of the Board, after consultation with the Board's Vice Chairman and the Chairman of the Board's Finance Committee, to communicate to the Congress the Board's view of H.R. 5974.

10. Public comment.

11. Consider and act on whether to authorize non-public briefings of the Board and discussion by the Board as per the items listed below under Closed Session.

Closed Session

12. Briefing by the OIG on status of CRLA investigation.

13. Briefing by management on CRLA referral issues.

14. Briefing by the OIG on status of the investigation requested by Chairmen Enzi, Grassley and Cannon.

15. Briefing by LSC Management on the investigation requested by Chairmen Enzi, Grassley and Cannon.

16. Discussion of above briefings.

17. Briefing on recent developments in litigation involving the Corporation.

18. Consider and act on motion to adjourn meeting.

The agenda amendments to the agenda were authorized by a majority vote of the Board of Directors as indicated below.

Record of Votes
Member | Yes | No | Absent
Lillian BeVier | Yes |  |
Jonann Chiles | Yes |  |
Thomas Fuentes | Yes |  |
Herbert Garten | Yes |  |
David Hall |  |  | Absent
Michael McKay | Yes |  |
Thomas Meites | Yes |  |
Bernice Phillips | Yes |  |
Sarah Singleton | Yes |  |
Frank Strickland | Yes |  |

The following agenda reflects only those items from the original agenda for September 18, 2006, as amended, that will be considered by the Board on September 22, 2006.

Matters to Be Considered on Friday, September 22, 2006

Board of Directors

Open Session

1. Approval of Agenda.

11. Consider and act on whether to authorize non-public briefings of the Board and discussion by the Board as per the items listed below under Closed Session.

Closed Session

14. Briefing by the OIG on status of the investigation requested by Chairmen Enzi, Grassley and Cannon.

15. Briefing by LSC Management on the investigation requested by Chairmen Enzi, Grassley and Cannon.

16. Discussion of above briefings.

Open Session

18. Consider and act on closed session briefings regarding the investigation requested by Chairmen Enzi, Grassley and Cannon.

19. Consider and act on motion to adjourn meeting.

Contact Person For Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: September 20, 2006.
Victor M. Fortuno,
Vice President for Legal Affairs, General Counsel & Corporate Secretary.

[FR Doc. 06-8204 Filed 9-20-06; 4:57 pm]

BILLING CODE 7050-01-P